DEPARTMENT OF THE INTERIOR

Indian Arts and Crafts Board

25 CFR Part 309

RIN 1076-AE16

Protection of Products of Indian Art and Craftsmanship

AGENCY: Indian Arts and Crafts Board (IACB), DOI.

ACTION: Notice of proposed rulemaking (NPRM).

SUMMARY: This proposal establishes regulations to provide guidance to persons who produce, market, or purchase arts and crafts marketed as Indian products, as defined under the Indian Arts and Crafts Act of 1990. The proposed regulations further clarify the definition of “Indian product” by including specific examples of “Indian product,” as well as examples of what is not an “Indian product,” in the regulations implementing the Indian Arts and Crafts Enforcement Act of 2000, an amendment to the Indian Arts and Crafts Act of 1990.

DATES: Written comments must be received on or before August 20, 2001.

ADDRESSES: If you wish to comment on the proposed rule for the Indian Arts and Crafts Enforcement Act of 2000, you may submit your comments by any one of several methods. You may mail comments to: Director, Indian Arts and Crafts Board, Room 4004-MIB, 1849 C Street, NW., Washington, DC 20240. You may also fax comments to 202-208-5196 or comment via the Internet to iacb@os.doi.gov. Please also include “Attn: RIN 1076-AE16 and your name and return address in your mailed, faxed, or Internet message. Please submit Internet comments as an ASCII file avoiding the use of special characters and any form of encryption. If you do not receive a confirmation from the system that we received your Internet message, contact us directly at 202-208-3773.

FOR FURTHER INFORMATION CONTACT: Meridith Z. Stanton, Director, Indian Arts and Crafts Board, Room 4004-MIB, 1849 C Street, NW., Washington, DC 20240, telephone 202-208-3773 (not a toll-free call), fax 202-208-5196, or e-mail iacb@os.doi.gov.

SUPPLEMENTARY INFORMATION:

Background

The Indian Arts and Crafts Board (IACB) was created by Congress pursuant to the Act of August 27, 1935 (49 Stat. 891; 25 U.S.C. 305 et seq.; 18 U.S.C. §§ 1158-59). The IACB is responsible for implementing the Indian Arts and Crafts Act of 1990, promoting the development of American Indian and Alaska Native arts and crafts, improving the economic status of members of federally recognized Tribes, and helping to establish and expand marketing opportunities for arts and crafts produced by American Indians and Alaska Natives.

The Indian Arts and Crafts Act of 1990, Public Law 101-644 (hereinafter the “1990 Act”), is essentially a truth-in-marketing law designed to prevent marketing of products misrepresented as produced by Indians when the products are not, in fact, made by an Indian as defined by the 1990 Act. Under Section 104(a) of the 1990 Act (18 U.S.C. 1159(c)(2)), “the terms ‘Indian product’ and ‘product of a particular Indian Tribe or Indian arts and crafts organization’ have the meaning given such term in regulations which may be promulgated by the Secretary of the Interior.”

Under the 1990 Act's current implementing regulations, at 25 CFR Part 309, prior to these amendments, the term “Indian product” is defined as:

“(1) In general. “Indian product” means any art or craft product made by an Indian.

“(2) Illustrations. The term Indian product includes, but is not limited to:

(i) Art works that are in a traditional or non-traditional Indian style or medium;

(ii) Crafts that are in a traditional or non-traditional Indian style or medium;

(iii) Handcrafts, i.e. objects created with the help of only such devices as allow the manual skill of the maker to condition the shape and design of each individual product.

“(3) Exclusion for products made before 1935. The provisions of this part shall not apply to any art or craft products made before 1935.”

The above definition reflects the IACB's determination that “Indian product” under the 1990 Act applies to Indian arts and crafts, and not all products generally. This determination is consistent with the IACB organic legislation, the IACB's primary mission as established by Congress, and the Congressional intent of the 1990 Act. The 1935 cut-off date for products regulated by the Act is in keeping with the Congressional intent of the 1990 Act and the legislated mission of the IACB—economic growth through the development and promotion of contemporary Indian arts and crafts.

The “Indian product” definition under the current regulations, at 25 CFR Part 309, focused on the nature and Indian origin of products covered by the 1990 Act, and did not provide specific arts and crafts examples. This proposed rule implements the Indian Arts and Crafts Enforcement Act of 2000, Public Law 106-497, (hereinafter the “2000 Act”) by clarifying the definition of “Indian product.” It also provides specific examples of items that may be marketed as Indian products, thereby informing the public as to when an individual may be subject to civil or criminal penalties for falsely marketing a good as an “Indian product.”

Section Analysis

Section 2 of the 2000 Act

The 2000 Act, an amendment to the Indian Arts and Crafts Act of 1990, Public Law 101-644, was enacted on November 9, 2000. Under this amendment, Congress sought to improve the cause of action for misrepresentation of Indian arts and crafts. Section 2 of the 2000 Act, directs the IACB to:

Not later than 180 days after the date of the enactment of the Indian Arts and Crafts Enforcement Act of 2000, the IACB shall promulgate regulations to include in the definition of the term “Indian product” specific examples of such product to provide guidance to Indian artisans as well as to purveyors and consumers of Indian arts and crafts, as defined under this Act.

Tribal Consultation

Prior to drafting regulations for the 2000 Act, in early January 2001 the IACB sent out individual letters to all Tribal leaders of federally recognized Tribes informing them of the 2000 Act and providing them with copies of the legislation. The letters also invited them to designate a member of their staff or Tribal member from their arts and crafts community with whom the IACB could discuss their Tribe's interest in specific language for consideration in the further clarification of “Indian product.” This Tribal involvement was intended to ensure that the amended definition properly encompasses Indian art and craft products that should be protected by the 1990 Act. Throughout March, the IACB sent follow-up letters to the designees confirming their participation and providing them with additional background information for the teleconference. The following Tribes participated in teleconferences with IACB.

March 14, 2001

Representatives from the Rincon Indian Reservation, Valley Center, CA; Cow Creek Band of Umpqua Tribe of Indians, Roseburg, OR; and Pyramid Lake Pauite Tribe, Nixon, NV.

Representatives from The Cocopah Indian Tribe, Somerton, AZ; Kaibab Band of Paiute, Pine Spring, AZ; Tohono O'odham Nation of Arizona, Sells, AZ; and Pueblo of Acoma, Acoma, NM.

March 15, 2001

Representatives from the Poarch Band of Creek Indians, Atmore, AL; Mashantucket Pequot Tribal Nation, Mashantucket, CT; Nome Eskimo Community, Nome, AK, and Catawba Indian Nation, Rock Hill, SC.

March 16, 2001

Representatives from the Three Affiliated Tribes, Fort Berthold, ND; White Earth Nation, White Earth, MN; Lac du Flambeau Band of Lake Superior Chippewa Indians, Lac du Flambeau, WI; and Cayuga Nation, Versailles, NY.

March 21, 2001

Representative from the Pueblo of Zuni, Zuni, NM.

March 22, 2001

Representatives from the Miami Tribe of Oklahoma, Miami, OK; Cherokee Nation, Tahlequah, OK; Seminole Nation of Oklahoma, Wewoka, OK; The Chickasaw Nation, Ada, OK; and Southern Ute Indian Tribe, Ignacio, CO.

March 23, 2001

Representatives from the Jicarilla Apache Nation, Dulce, NM, and Oneida Indian Nation, Vernon, NY.

March 27, 2001

Representative from the Passamaquoddy Tribe of Maine, Princeton, ME.

Representatives from the Fallon Paiute-Shoshone Tribe, Fallon, NV.

Representatives from the Confederated Tribes and Bands of the Yakama Nation, Toppenish, WA.

March 29, 2001

Representative from the Sheep Ranch Rancheria of the Me-wuk Indians of California, Tracy, CA.

March 30, 2001

Representatives from the Confederated Tribes of the Umatilla Indian Reservation, Pendleton, OR.

April 16, 2001

Representative from the Fort Mojave Indian Tribe of Arizona, California, and Nevada, Needles, CA.

April 17, 2001

Representatives from the Hopi Tribe of Arizona, Kykotsmovi, AZ.

Public Comment Solicitation

If you wish to comment on the proposed rule for the 2000 Act, you may submit your comments by any one of several methods. You may mail comments to: Director, Indian Arts and Crafts Board, Room 4004-MIB, 1849 C Street, NW., Washington, DC 20240. You may also fax comments to 202-208-5196 or comment via the Internet to iacb@os.doi.gov. Please also include “Attn: RIN 1076-AE16,” your name and return address in your mailed, faxed, or Internet message. Please submit Internet comments as an ASCII file avoiding the use of special characters and any form of encryption. If you do not receive a confirmation from the system that we received your Internet message, contact us directly at 202-208-3773.

Our practice is to make comments, including names and home addresses of respondents, available for public review during regular business hours. Individual respondents may request that we withhold their home address from the rulemaking record, which we will honor to the extent allowable by law. There also may be circumstances in which we would withhold from the rulemaking record a respondent's identity, as allowable by law. If you wish us to withhold your name and/or address, you must state this prominently at the beginning of your comment. However, we will not consider anonymous comments. We will make all submissions from organizations or businesses, and from individuals identifying themselves as representatives or officials of organizations or businesses, available for public inspection in their entirety.

All communications received on or before the closing date for comments will be considered by the IACB before taking action on the proposed rule. The proposals contained in this document may be changed in light of comments received. All comments submitted will be available for examination in the rule docket after the closing date for comments at Room 4004-MIB, 1849 C Street, NW., Washington, DC, on weekdays, except federal holidays, between 8:30 a.m. and 5 p.m.

Drafting Information

This proposed rule was prepared by Meridith Z. Stanton (Director, Indian Arts and Crafts Board).

Compliance With Other Laws

1. Regulatory Planning and Review (Executive Order 12866)

This document is not a significant rule and is not subject to review by the Office of Management and Budget under Executive Order 12866.

(1) This rule will not have an effect of $100 million or more on the economy. It will not adversely affect in a material way the economy, productivity, competition, jobs, the environment, public health, or safety, or State, local, or tribal governments or communities. The rule is simply a Congressionally mandated further clarification of an existing regulatory definition of “Indian product.”

(2) This rule will not create a serious inconsistency or otherwise interfere with an action taken or planned by another agency. The rule, the further clarification of an existing regulatory definition of “Indian product,” does not involve another agency.

(3) This rule does not alter the budgetary effects or entitlements, grants, user fees, or loan programs or the rights or obligations of their recipients. This rule does not involve any budgetary or entitlements issues.

(4) This rule does not raise novel legal or policy issues. Again, it is simply the further clarification of an existing definition of “Indian product.”

2. Regulatory Flexibility Act

The Department of the Interior certifies that this document will not have a significant economic effect on a substantial number of small entities under the Regulatory Flexibility Act (5 U.S.C. 601 et seq.) An unknown number of individuals, small businesses, and tribal governments may be affected in some way, but they do not exceed several thousand in aggregate.

3. Small Business Regulatory Enforcement Fairness Act (SBREFA)

This rule is not a major rule under 5 U.S.C. 804(2), the Small Business Regulatory Enforcement Fairness Act. This rule:

(a) Does not have an annual effect on the economy of $100 million or more. The annual effect is insignificant.

(b) Will not cause a major increase in costs or prices for consumers, individual industries, Federal, State, or local government agencies, or geographic regions. Clarification of the term “Indian product” and guidance on how to represent Indian products in the marketplace will not cause any significant increase in the costs or prices for consumers, individual industries, Federal, State, or local government agencies, or geographic regions.

(c) Does not have significant adverse effects on competition, employment, investment, productivity, innovation, or the ability of the U.S.-based enterprises to compete with foreign-based enterprises. Through the clarification of the term “Indian product,” the ability of U.S.-based enterprises to compete with foreign-based enterprises will not be significantly affected. In fact, it should assist U.S. Indian arts and crafts producers to compete with counterfeit Indian arts and crafts produced overseas.

4. Unfunded Mandates Reform Act

This rule does not impose an unfunded mandate on State, local, or tribal governments or the private sector of more than $100 million per year. The rule does not have a significant or unique effect on State, local, or tribal governments or the private sector. It simply clarifies an existing regulatory definition of “Indian product.” A statement containing the information required by the Unfunded Mandates Reform Act (2 U.S.C. 1531 et seq.) is not required.

5. Takings (Executive Order 12630)

In accordance with Executive Order 12630, the rule does not have significant takings implications. This rule does not involve government action or interference with Constitutionally protected rights.

6. Federalism (Executive Order 12612)

In accordance with Executive Order 12612, the rule does not have sufficient federalism implications to warrant the preparation of a Federalism Assessment. This rule does not affect the relationship between State and federal governments. A Federalism Assessment is not required.

7. Civil Justice Reform (Executive Order 12988)

In accordance with Executive Order 12988, the Office of the Solicitor had determined that this rule does not unduly burden the judicial system and meets the requirements of sections 3(a) and 3(b)(2) of the Order.

8. Paperwork Reduction Act

This regulation does not require an information collection from 10 or more parties and a submission under the Paperwork Reduction Act is not required. An OMB form 83-I is not required.

9. National Environmental Policy Act

This rule does not constitute a major Federal action significantly affecting the quality of the human environment.

10. Clarity of this regulation

Executive Order 12866 requires each agency to write regulations that are easy to understand.

We invite your comments on how to make this rule easier to understand, including answers to questions such as the following: (1) Are the requirements in the rule clearly stated? (2) Does the rule contain technical language or jargon that interferes with its clarity? (3) Does the format of the rule (grouping and order of sections, use of headings, paragraphing, etc.) aid or reduce its clarity? (4) Is the description of the rule in the “Supplementary Information” section of the preamble helpful in understanding the proposed rule? What else could we do to make the rule easier to understand?

Send a copy of any comments that concern how we could make this rule easier to understand to: Office of Regulatory Affairs, Department of the Interior, Room 7229, 1849 C Street, NW., Washington, DC 20240. You may also e-mail the comments to this address: exsec@ios.doi.gov.

List of Subjects in 25 CFR Part 309

Indians—arts and crafts, Penalties, Trademarks.

For the reasons set out in the preamble, part 309 of 25 CFR Chapter II is proposed to be amended as follows:

PART 309—PROTECTION OF INDIAN ARTS AND CRAFTS PRODUCTS

1. The authority citation for part 309 continues to read as follows:

Authority: 18 U.S.C. 1159, 25 U.S.C. 305 et seq.

2. In § 309.2, paragraph (d) is revised to read as follows:

§ 309.2 What are the key definitions for purposes of the Act?

* * * * *

(d) Indian product means any art or craft product made by an Indian. Indian labor makes the Indian art or craft object an Indian product.

(1) Illustrations. The term Indian product includes, but is not limited to:

(i) Art works made by an Indian that are in a traditional or non-traditional style or medium;

(ii) Crafts made by an Indian that are in a traditional or non-traditional style or medium;

(iii) Handcrafts made by an Indian, i.e. objects created with the help of only such devices as allow the manual skill of the maker to condition the shape and design of each individual product.

(2) Exclusions. An Indian product under the Act is not any of the following:

(i) An Indian style art or craft product produced in a foreign country by non-Indian labor or craftsmanship using an Indian design;

(ii) An Indian style art or craft product produced in the United States by non-Indian labor or craftsmanship;

(iii) An Indian style art or craft product that is designed by an Indian but produced by non-Indian labor;

(iv) An Indian style art or craft product assembled from a kit;

(v) An Indian style art or craft product, originating from a commercial product, without a substantial handcraft element provided by Indian labor;

(vi) An industrial product, such as a bicycle assembled by Indian labor; or

(vii) An Indian style art or craft product produced in an assembly line or related production line process using multiple workers that is not all-Indian labor. For example, an Indian style pipe assembled by non-Indians with an Indian(s) supplying a few beads for accent is not an Indian product.

* * * * *

3. Sections 309.3 through 309.6 are redesignated as §§ 309.24 through 309.27.

4. New §§ 309.6 through 309.23 are added to read as follows:

§ 309.6 When does a commercial product become an Indian product?

In addressing Indian embellishments to originally commercial products, the Indian labor expended to add art or craftwork to those objects must be sufficient to change the nature, quality, and appearance of the original commercial item. Through substantial transformation due to Indian labor, a product changes from a commercial product to an Indian product. Examples of formerly commercial products that become Indian products include Indian beaded tennis shoes and Indian ribbon appliquéd denim jackets.

§ 309.7 How should a seller disclose the nature and degree of Indian labor when selling, offering, or displaying art and craftwork for sale?

The Indian Arts and Crafts Act is a truth-in-marketing law. Those who produce and market art and craftwork should honestly represent and clarify the degree of Indian involvement in the production of the art and craftwork when it is sold, displayed or offered for sale. The following guidelines illustrate how to characterize art and craftwork:

If . . . | then . . .
(a) An Indian conceives, designs, and makes the art or craftwork | it is an “Indian product.”
(b) An Indian produces a product that meets the definition of “handcrafted,” in 309.2(d)(1)(iii) | it can be marketed as such and it meets the definition of “Indian product.”
(c) An Indian makes an art or craftwork using some machine made parts | it is “Indian made,” and meets the definition of “Indian product.”
(d) An Indian designs a product, such as a bracelet, which is then produced by non-Indians | it should be marketed as “Indian designed.” It does not meet the definition of “Indian product” under the Act.
(e) A product, such as jewelry, is assembled from a substantial amount of non- Indian made materials | it is not an “Indian product.” ¹
(f) A product is assembled by a non-Indian from a kit | it does not meet the definition of “Indian product.” To avoid misleading the consumer, this product should be marketed as “assembled by a non-Indian from a kit” on the product label and packaging.
(g) A product is in the style of an Indian art or craft product, but not made by an Indian | it should be marketed as “Indian style” or “Indian inspired.” It does not meet the definition of “Indian product” under the Act.
(h) An Indian non-Indian jointly undertake the art or craftwork to produce an art or craft product, for example a concho belt | only a percentage of the labor is Indian and it does not meet the definition of “Indian product” under the Act. ²
¹ For example, a necklace strung with overseas manufactured fetishes or heshi does not meet the definition of “Indian product” under the Act. If an Indian assembled the necklace, in keeping with the truth-in-marketing focus of the Act, it should be marketed as “Indian assembled.” Similarly, if a product, such as a kachina, is assembled by an Indian from a kit, it should be marketed as “Indian assembled” and does not meet the definition of “Indian product” under the Act.
² In order to be an “Indian product,” the labor component of the product must be entirely Indian. In keeping with this truth-in-marketing law, the collaborative work should be marketed as such. Therefore, it should be marketed as produced by “X” (name of artist or artisan) of “Y” (enrolled Tribe) and “Z” (name of artist or artisan with no Tribe listed) to avoid misleading the consumer.

§ 309.8 For marketing purposes, what is the recommended method of identifying authentic Indian products?

The recommended method of marketing authentic Indian products is to include the “name of the artist or artisan” and the “name of the Tribe” in which the artist or artisan is enrolled. For example, the Indian product should include a label, hangtag, provenance card, or similar identification that includes the name of the artist or artisan and the name of the Tribe in which the artisan is enrolled.

§ 309.9 Is it illegal for a non-Indian to make and sell Indian style art or craft products?

A non-Indian can make and sell Indian style art or craft products only if the non-Indian or other seller does not mislead the consumer to believe that the products have been made by an Indian. These products should be offered for sale as “non-Indian made,” “Indian inspired,” or “Indian style.”

§ 309.10 What are some sample categories and examples of Indian products?

What constitutes an Indian art or craft product is potentially very broad. However, to provide guidance to persons who produce, market, or purchase items marketed as Indian products, §§ 309.11 through 309.22 contain a sample listing of “specific examples” of objects that meet the definition of Indian products. There is some repetition, due to the interrelated nature of many Indian products. The listing in these sections contains examples, and is not intended to be all-inclusive. Additionally, although the Indian Arts and Crafts Act of 1990 and the Indian Arts and Crafts Enforcement Act of 2000 do not address materials used in Indian products, some materials are included for their descriptive nature only. This is not intended to restrict materials used or to exclude materials not listed.

§ 309.11 What are examples of jewelry that are Indian products?

(a) Jewelry and related accessories made by Indian labor using a wide variety of media, including, but not limited to, silver, gold, turquoise, coral, lapis, jet, nickel silver, glass bead, copper, wood, shell, walrus ivory, whale baleen, bone, horn, horsehair, quill, seed, and berry are Indian products.

(b) Specific examples include, but are not limited to: Ivory and baleen scrimshaw bracelets, abalone shell necklaces, nickel silver scissortail pendants, silver sand cast bracelets, silver overlay bolos, turquoise channel inlay gold rings, cut glass bead rosette earrings, wooden horse stick pins, and medicine wheel quilled medallions.

§ 309.12 What are examples of basketry that are Indian products?

(a) Basketry and related weavings made by Indian labor using a wide variety of media, including, but not limited to, birchbark, black ash, brown ash, cedar, willow, palmetto, honeysuckle, river cane, oak, buck brush, sumac, dogwood, cattail, reed, raffia, horsehair, pine needle, spruce root, rye grass, sweet grass, yucca, bear grass, beach grass, rabbit brush, hemp, maidenhair fern, whale baleen, seal gut, feathers, shell, devil's claw, and porcupine quill are Indian products.

(b) Specific examples include, but are not limited to: Double weave river cane baskets, yucca winnowing trays, willow burden baskets, honeysuckle sewing baskets, black ash picnic baskets, pine needle/raffia effigy baskets, oak splint and braided sweet grass fancy baskets, birchbark containers, baleen baskets, rye grass dance fans, brown ash strawberry baskets, sumac wedding baskets, cedar hats, hemp basket hats, yucca wicker basketry plaques, and spruce root tobacco pouches.

§ 309.13 What are examples of other weaving and textiles that are Indian products?

(a) Weavings and textiles made by Indian labor using a wide variety of media, including, but not limited to, cornhusk, raffia, tule, horsehair, cotton, wool, hemp, linen, rabbit skin, feather, bison fur, and qiviut (musk ox) wool are Indian products.

(b) Specific examples include, but are not limited to: Corn husk bags, twined yarn bags, cotton mantas, willow cradle boards, horsehair hatbands, Chiefs Blankets, Two Grey Hills rugs, horse blankets, finger woven sashes, brocade table runners, star quilts, pictorial appliqué wall hangings, hemp woven bags, embroidered dance shawls, rabbit skin blankets, and feather blankets.

§ 309.14 What are examples of beadwork, quillwork, and moose hair tufting that are Indian products?

(a) Beadwork, quillwork, and moose hair tufting made by Indian labor to decorate a wide variety of materials, including, but not limited to, bottles, baskets, bags, pouches, and other containers; belts, buckles, jewelry, hatbands, hair clips, barrettes, bolos, and other accessories; moccasins, vests, jackets, and other articles of clothing; and dolls and other toys and collectibles are Indian products.

(b) Specific examples include, but are not limited to: Quilled pipe stems, loom beaded belts, pictorial bags adorned with cut glass beads, deer skin moccasins decorated with moose hair tufting, beaded miniature dolls, and quilled and beaded amulets.

§ 309.15 What are examples of apparel that are Indian products?

(a) Apparel made or substantially decorated by Indian labor including, but not limited to, parkas, jackets, coats, moccasins, boots, slippers, mukluks, mittens, gloves, gauntlets, dresses, and shirts are Indian products.

(b) Specific examples include, but are not limited to: Seal skin parkas, ribbon appliqué dance shawls, smoked moose hide slippers, deer skin boots, patchwork jackets, calico ribbon shirts, wing dresses, and buckskin shirts.

§ 309.16 What are examples of regalia that are Indian products?

(a) Regalia are ceremonial clothing, modern items with a traditional theme, and accessories with historical significance made or significantly decorated by Indian labor, including, but not limited to, that worn to perform traditional dances, participate in traditional socials, used for dance competitions, and worn on special occasions of tribal significance. If these items are made or significantly decorated by Indian labor, they are Indian products.

(b) Specific examples include, but are not limited to: Hide leggings, buckskin dresses, breech cloths, dance shawls, frontlets, shell dresses, button blankets, feather bustles, porcupine roaches, beaded pipe bags, nickel silver stamped armbands, quilled breast plates, coup sticks, horse sticks, shields, headdresses, dance fans, and rattles.

§ 309.17 What are examples of woodwork that are Indian products?

(a) Woodwork made from wood by Indian labor, including, but not limited to, sculpture, drums, furniture, containers, hats, and masks are Indian products.

(b) Specific examples include, but are not limited to: Hand drums, totem poles, animal figurines, folk carvings, kachinas, long house posts, clan house carved doors, chairs, relief panels, bentwood boxes, snow goggles, hunting hats, spirit masks, bows and arrows, atlatls, redwood dug out canoes, war clubs, flutes, dance sticks, talking sticks, shaman staffs, cradles, decoys, spiral pipe stems, violins, and Native American Church boxes.

§ 309.18 What are examples of hide, leatherwork, and fur that are Indian products?

(a) Hide, leatherwork, and fur made or significantly decorated by Indian labor, including, but not limited to, parfleches, tipis, horse trappings and tack, pouches, bags, and hide paintings are Indian products.

(b) Specific examples include, but are not limited to: Narrative painted hides, martingales, saddles, bonnet cases, drapes, quirts, forelocks, rosettes, horse masks, bridles, head stalls, cinches, saddle bags, side drops, harnesses, arm bands, belts, and other hand crafted items with studs and tooling.

§ 309.19 What are examples of pottery and ceramics that are Indian products?

(a) Pottery, ceramics, and related arts and crafts items made or significantly decorated by Indian labor, including, but not limited to, a broad spectrum of clays and ceramic material are Indian products.

(b) Specific examples include, but are not limited to: Ollas, pitch vessels, pipes, raku bowls, pitchers, canteens, effigy pots, wedding vases, micaceous bean pots, seed pots, masks, incised bowls, blackware plates, redware bowls, polychrome vases, and storytellers and other figures.

§ 309.20 What are examples of sculpture, carving, and pipes that are Indian products?

(a) Sculpture, carving, and pipes made by Indian labor including, but not limited to, wood, soapstone, alabaster, pipestone, argillite, turquoise, ivory, baleen, bone, antler, and shell are Indian products.

(b) Specific examples include, but are not limited to: Fetishes, animal figurines, pipestone pipes, moose antler combs, argillite bowls, ivory cribbage boards, whalebone masks, elk horn purses, and clamshell gorgets.

§ 309.21 What are examples of dolls and toys that are Indian products?

Dolls, toys, and related items made by Indian labor, including, but not limited to, no face dolls, corn husk dolls, kachina dolls, patchwork and palmetto dolls, reindeer horn dolls, lacrosse sticks, stick game articles, gambling sticks, gaming dice, miniature cradle boards, and yo-yos are Indian products.

§ 309.22 What are examples of painting and other fine art forms that are Indian products?

Painting and other fine art forms made by Indian labor, and include but are not limited to, works on canvas, photography, sand painting, mural, computer generated art, graphic art, video artwork, printmaking, drawing, bronze casting, glasswork, and art forms to be developed in the future are Indian products.

§ 309.23 Does this part apply to products made before 1935?

The provisions of this part do not apply to any art or craft products made before 1935.

Dated: May 14, 2001.
Robert Lamb,
Acting Assistant Secretary—Policy, Management, and Budget.

[FR Doc. 01-12666 Filed 5-18-01; 8:45 am]

BILLING CODE 4310-84-U